DEPARTMENT OF COMMERCE

National Oceanic and Atmospheric Administration

RIN 0648-XE386

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday and Thursday, January 26, 27, and 28, 2016, starting at 9 a.m. on January 26, and at 8:30 a.m. on both January 27 and 28.

ADDRESSES: The meeting will be held at the Sheraton Portsmouth Harborside Hotel, 250 Market Street, Portsmouth, NH 03801; telephone: (603) 431-2300, or online at www.sheratonportsmouth.com/.

Council address: New England Fishery Management Council, 50 Water Street, Mill 2, Newburyport, MA 01950; telephone: (978) 465-0492.

FOR FURTHER INFORMATION CONTACT: Thomas A. Nies, Executive Director, New England Fishery Management Council; telephone: (978) 465-0492, ext. 113.

SUPPLEMENTARY INFORMATION:

Agenda

Tuesday, January 26, 2016

After introductions and any announcements, the Council meeting will open with brief reports from the NEFMC Chairman and Executive Director, the NOAA Regional Administrator for the Greater Atlantic Region, Northeast Fisheries Science Center and Mid-Atlantic Fishery Management Council liaisons, NOAA General Counsel and Office of Law Enforcement representatives, and staff from the Atlantic States Marine Fisheries Commission and the U.S Coast Guard. Following these reports, the Council will receive an update on plans for a February sea scallop workshop being held to explore concerns about inshore scallop fishing in the Northeast. Next, the public will have an opportunity to make brief comments on items that are relevant to Council business but otherwise not listed on the published agenda.

Following a lunch break, the Council's Risk Policy Working Group will provide an update on finalizing what is being termed a “roadmap” that contains guidance on the implementation of the NEFMC's recently approved risk policy. The Atlantic Herring Committee will then provide a briefing on the following: (a) The development of Amendment 8 to the Atlantic Herring Fishery Management Plan (FMP), an action that will the focus on long-term harvest strategies for Atlantic herring, including an acceptable biological catch control rule that explicitly accounts for herring's role in the ecosystem, and the issue of localized depletion; (b) revising the Georges Bank haddock catch cap accountability measure through a framework adjustment to the Herring FMP; and (c) the use of portside data in river herring/shad catch cap monitoring.

Wednesday, January 27, 2016

The second day of the meeting will begin with an overview to be provided by NOAA Fisheries on its Fishery Dependent Data Project, to be followed by a Council and public comments on the topic. The Observer Policy Committee will report on its development of an Industry-Funded Monitoring Amendment (IFM). At this meeting, the committee will review a draft environmental assessment and select preferred alternatives for the omnibus elements of the action for purposes of public review. They include: Standard cost responsibilities, framework provisions for IFM programs, service provider requirements, a prioritization process to allocate federal funding, and a monitoring set-aside option. The Council is expected to select preferred alternatives for the herring and mackerel alternatives in this draft amendment at its April 2016 meeting.

After a lunch break, the Scientific and Statistical Committee (SSC) will present its recommendations, if any, for a revised overfishing limit and an acceptable biological catch for witch flounder for fishing years 2016-18. The Council will receive an update on additional topics discussed by the SSC at their January 20 meeting, as appropriate. During the Groundfish Committee's report, the Council expects to take final action on the 2016-18 fishery specifications for witch flounder and receive an update on the development of measures to address its the 2016 groundfish priorities. These include potential changes to the at-sea monitoring program and the management process for recreational fishing. The day will conclude with a review of NOAA's Draft Catch Share Guidance document and approval of NEFMC comments on the draft.

Thursday, January 28, 2015

The final meeting day will begin with an overview of the Northeast Regional Planning Body's (RPB) Regional Ocean Plan, followed by Council discussion of the plan and other work products developed by the RPB. The Small Mesh Multispecies Committee will present an overview of the scoping comments received for Amendment 22 to the Northeast Multispecies FMP and ask for approval of the range of issues to be addressed in the action. The major topic under consideration is the development of a limited access program for the small mesh fishery, which is comprised of whiting (silver and offshore hake) and red hake. The Council also will consider Northeast Regional Coordinating Council-recommended changes to the Stock Assessment Workshop/Stock Assessment Review Committee process. The Council meeting will adjourn after its members address any other outstanding Council business.

Although other non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: January 5, 2016.
Jeffrey N. Lonergan,
Acting Deputy Director, Office of Sustainable Fisheries, National Marine Fisheries Service.

[FR Doc. 2016-00141 Filed 1-7-16; 8:45 am]

BILLING CODE 3510-22-P